DEPARTMENT OF THE INTERIOR

National Park Service

Concession Contracts and Permits; Expiring Contracts; Extension

AGENCY: National Park Service, Interior.

ACTION: Public notice.

SUMMARY: Pursuant to 36 CFR 51.23, notice is hereby given that the National Park Service intends to extend the following expiring concession contracts for a period of up to 2 years, or until such time as a new contract is awarded, whichever occurs sooner.

SUPPLEMENTARY INFORMATION: All of the listed concession authorizations will expire on December 31, 2002. The National Park Service has determined that the proposed short-term extensions are necessary in order to avoid interruption of visitor services and has taken all reasonable and appropriate steps to consider alternatives to avoid such interruption. These extensions will allOW the National Park Service to develop prospectuses leading to the competitive selection of concessioners for new long-term concession contracts covering these operations.

Concessioner ID No. | Concessioner name | Park
LAME007 | Lake Mohave Resort | Lake Mead NRA.
LAME009 | Temple Bar Resort | Lake Mead NRA.

EFFECTIVE DATE: January 2, 2003.

FOR FURTHER INFORMATION CONTACT: Cynthia Orlando, Concession Program Manager, National Park Service, 1849 C Street, NW. (2410), Washington, DC 20240, Telephone 202/513-7144.

Dated: November 26, 2002.
Richard M. Cripe,
Acting Associate Director, Administration, Workforce Development and Business Practices.

[FR Doc. 02-32168 Filed 12-20-02; 8:45 am]

BILLING CODE 4310-70-M